DEPARTMENT OF COMMERCE

National Oceanic and Atmospheric Administration

[RTID 0648-XD322]

Marine Mammals; File No. 27459

AGENCY: National Marine Fisheries Service (NMFS), National Oceanic and Atmospheric Administration (NOAA), Commerce.

ACTION: Notice; receipt of application.

SUMMARY: Notice is hereby given that Robin Trayler, Ph.D., University of California, Merced, 5200 N Lake Road, Science and Engineering 1, 283, Merced, CA 95343, has applied in due form for a permit to import marine mammal specimens for scientific research.

DATES: Written comments must be received on or before October 5, 2023.

ADDRESSES: The application and related documents are available for review by selecting “Records Open for Public Comment” from the “Features” box on the Applications and Permits for Protected Species (APPS) home page, https://apps.nmfs.noaa.gov, and then selecting File No. 27459 from the list of available applications. These documents are also available upon written request via email to NMFS.Pr1Comments@noaa.gov.

Written comments on this application should be submitted via email to NMFS.Pr1Comments@noaa.gov. Please include File No. 27459 in the subject line of the email comment.

Those individuals requesting a public hearing should submit a written request via email to NMFS.Pr1Comments@noaa.gov. The request should set forth the specific reasons why a hearing on this application would be appropriate.

FOR FURTHER INFORMATION CONTACT: Jennifer Skidmore and Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to import up to 20 samples annually from each of the following species: ringed seal (Pusa hispida), harbor seal (Phoca vitulina) and gray seal (Halichoerus grypus); and up to 40 samples annually from killer whales (Orcinus orca) from the Swedish Natural History Museums' collections (i.e., collection of beached or accidentally killed animals). The applicant proposes to use stable isotope analysis of bone collagen to investigate the dietary ecology of grey wolves (Canis lupus) and killer whales over the past 100 years. By quantifying the contribution of seals to the diet of the predators, the research will study the energy flow between marine and terrestrial ecosystems and pressure on seal populations in Sweden. The permit would be valid for 3 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 30, 2023.
Julia M. Harrison,
Chief, Permits and Conservation Division, Office of Protected Resources, National Marine Fisheries Service.

[FR Doc. 2023-19056 Filed 9-1-23; 8:45 am]

BILLING CODE 3510-22-P